DEPARTMENT OF THE INTERIOR

Fish and Wildlife Service

[FWS-R7-R-2013-N070; FXRS12650700000-145-FF07R05000]

Record of Decision for Final Environmental Impact Statement; Izembek National Wildlife Refuge Proposed Land Exchange/Road Corridor, Cold Bay, Alaska

AGENCY: Fish and Wildlife Service, Interior.

ACTION: Notice of availability: record of decision.

SUMMARY: We, the Department of the Interior (Department) and the U.S. Fish and Wildlife Service (Service), announce the availability of the record of decision (ROD) for the final environmental impact statement (EIS) for a proposed land exchange/road corridor on the Izembek National Wildlife Refuge (Refuge), Alaska. We prepared this ROD pursuant to the National Environmental Policy Act of 1969 (NEPA) and its implementing regulations. We provide this notice to advise the public and other agencies of our decision and of availability of the ROD.

DATES: Both the Director of the U.S. Fish and Wildlife Service and the Secretary of the Interior signed the ROD on December 23, 2013.

ADDRESSES: You may view or obtain copies of the ROD by any of the following methods:

Web site: Download a copy of the document(s) at http://izembek.fws.gov/eis.htm.

Email: izembek_eis@fws.gov; include “Izembek National Wildlife Refuge ROD” in the subject line of the message.

Fax: Attn: Stephanie Brady, Project Team Leader, 907-786-3901.

U.S. Mail: Stephanie Brady, Project Team Leader, U.S. Fish and Wildlife Service, 1011 East Tudor Rd., MS-231, Anchorage, AK 99503.

In-Person Viewing or Pickup: You may view or pick up a copy of the ROD during regular business hours at the address listed above.

FOR FURTHER INFORMATION CONTACT: Stephanie Brady, 907-306-7448, or by one of the addresses above.

SUPPLEMENTARY INFORMATION: With this notice, we finalize the EIS process for the Proposed Land Exchange/Road Corridor in the Izembek Refuge, Alaska. In accordance with National Environmental Policy Act (NEPA) (40 CFR 1506.6(b)) requirements, this notice announces the availability of the ROD for the final EIS for a Proposed Land Exchange/Road Corridor in the Izembek Refuge. We completed a thorough analysis of the effects on the human environment of each alternative considered, including environmental, social, and economic considerations, which were included in the final EIS. The ROD documents our selection of Alternative 1, the No Land Exchange Alternative (No Action Alternative), which was the Service's preferred alternative in the final EIS. Under this decision, the Service will not exchange land with the State of Alaska and the King Cove Corporation for the purpose of constructing a road between the communities of King Cove and Cold Bay, Alaska. Under this decision, we will continue to manage lands within the Refuge consistent with and following the Izembek Refuge Comprehensive Conservation Plan. For more background on the Refuge, and the public involvement process to date, please see our notice published Wednesday, February 6, 2013 (78 FR 8577).

Background

The Omnibus Public Land Management Act of 2009 (Pub. L. 111-11, Title VI, Subtitle E) (OPLMA) directed the Secretary of the Interior to analyze the land exchange, alternatives for road construction and operation, and a specific road corridor through the Izembek Refuge and the Izembek Wilderness. The proposed land exchange would transfer to the State of Alaska all right, title, and interest to a road corridor for the construction, operation, and maintenance of a single-lane gravel road between the communities of King Cove and Cold Bay, Alaska. As provided by OPLMA, the road “shall be used primarily for health and safety purposes (including access to and from the Cold Bay Airport) and only for noncommercial purposes.” The OPLMA requires the Secretary to make this decision in compliance with NEPA, which requires analysis of the effects of alternatives, including a “no action” alternative, and any other applicable law.

Alternatives Considered

The Final EIS evaluated in detail five alternatives, including a No Action Alternative and four action alternatives:

Alternative 1—No Action and Preferred Alternative

Under Alternative 1, the Service would not exchange lands with the King Cove Corporation and the State of Alaska for the purpose of constructing a road between King Cove and Cold Bay, Alaska. Current modes of transportation between the cities of King Cove and Cold Bay, including air and marine routes, would continue to operate and be developed.

Alternative 2—Land Exchange and Southern Road Alignment

Alternative 2 proposed a land exchange between the Federal Government, the State of Alaska, and the King Cove Corporation that would result in a road/road corridor through Izembek Refuge and Izembek Wilderness. Under the proposed land exchange, approximately 201 acres of federal land (surface and subsurface estate) of the Izembek Refuge and Izembek Wilderness as well as 1,600 acres (surface and subsurface estate) within the Alaska Maritime National Wildlife Refuge on Sitkinak Island would be conveyed to the State of Alaska. In exchange, the Service would receive approximately 43,093 acres of land owned by the State of Alaska (to be designated wilderness), as well as approximately 13,300 acres of land owned by King Cove Corporation. In addition, the King Cove Corporation would relinquish 5,430 acres of selected lands within the Izembek Refuge and Izembek Wilderness boundary. The proposed road/road corridor would be located approximately ½ mile to 1 mile north of Kinzarof Lagoon.

Alternative 3—Land Exchange and Central Road Alignment

Alternative 3 proposed a land exchange between the Federal Government, the State of Alaska, and the King Cove Corporation that would result in a road/road corridor through Izembek Refuge and Izembek Wilderness. Under the proposed land exchange, approximately 227 acres of federal land (surface and subsurface estate) of the Izembek Refuge and Izembek Wilderness as well as 1,600 acres (surface and subsurface estate) within the Alaska Maritime National Wildlife Refuge on Sitkinak Island would be conveyed to the State of Alaska. In exchange, the Service would receive approximately 43,093 acres of land owned by the State of Alaska (to be designated wilderness), as well as approximately 13,300 acres of land owned by King Cove Corporation. In addition, the King Cove Corporation would relinquish 5,430 acres of selected lands within the Izembek Refuge and Izembek Wilderness boundary. The proposed road/road corridor would be located more centrally within the Izembek isthmus approximately 1 to 1½ mile north of Kinzarof lagoon and ½ to 1 mile south of Izembek Lagoon.

Alternative 4—Hovercraft Operations From the Northeast Terminal to Cross Wind Cove

Alternative 4 proposed operation of a hovercraft service 6 days per week to provide access between the communities of King Cove and Cold Bay, running between the Northeast Terminal and Cross Wind Cove. A land exchange was not considered under this alternative.

Alternative 5—Lenard Harbor Ferry With Cold Bay Dock Improvements

Alternative 5 proposed use of a ferry to provide access between King Cove and Cold Bay that would travel 14 miles between a terminal in Lenard Harbor to a substantially modified Cold Bay dock. Under this alternative, ferry service would be provided 6 days per week and a land exchange would not occur.

Factors We Considered in Decisionmaking

We based our decision on a thorough analysis of the effects to the human environment, including environmental, social, and economic considerations found in the Final EIS. We have evaluated the effects of proposed roads through Izembek Refuge and Izembek Wilderness in numerous analyses since 1960, including the 1985 Comprehensive Conservation Plan and through the completion of the current EIS. We have consistently found that the impacts of building a proposed road on the wildlife resources, habitats, and designated Wilderness would create irreversible change and damage to a unique and ecologically important area, and especially to designated Wilderness. The no action alternative selected in the ROD supports the continued management of the Izembek Refuge consistent with the purposes for which it was established.

Decision: After a thorough review of the potential environmental, social, and economic consequences of all alternatives evaluated in the Final EIS, we selected Alternative 1, the No Action Alternative. Selecting Alternative 1 preserves the integrity of the Izembek National Wildlife Refuge and Izembek Wilderness, ensures the continued protection of unique and internationally recognized habitats, and maintains the integrity of designated Wilderness.

Dated: February 13, 2014.
Geoffrey L. Haskett,
Regional Director, U.S. Fish and Wildlife Service, Anchorage, Alaska.

[FR Doc. 2014-03605 Filed 2-19-14; 8:45 am]

BILLING CODE 4310-55-P